DEPARTMENT OF THE TREASURY

Internal Revenue Service

Internal Revenue Service Advisory Council; Meeting

AGENCY: Internal Revenue Service, Department of Treasury.

ACTION: Notice of meeting.

SUMMARY: The Internal Revenue Service Advisory Council will hold a public meeting.

DATES: The meeting will be held Thursday, November 9, 2023.

ADDRESSES: The meeting will be held in person.

FOR FURTHER INFORMATION CONTACT: Ms. Anna Brown, Office of National Public Liaison, at 202-317-6564 or send an email to PublicLiaison@irs.gov.

SUPPLEMENTARY INFORMATION: Notice is hereby given pursuant to 5 U.S.C. 10(a)(2) of the Federal Advisory Committee Act, that a public meeting of the Internal Revenue Service Advisory Council (IRSAC) will be held on Thursday, November 9, 2023, from 9:00 a.m. to 1:00 p.m. EST.

The meeting will be held in person at 1111 Constitution Ave. NW, Washington, DC. To register, members of the public may contact Ms. Anna Brown at 202-317-6564 or send an email to PublicLiaison@irs.gov. Attendees are encouraged to arrive at the IRS visitor center at 1111 Constitution Ave. NW, 30 minutes before the meeting begins.

Issues to be discussed may include, but are not limited to: Budget Shortfalls Need to be Addressed with Lawmakers; Section 6050W Guidance Needed for Filers of Form 1099-K; Corrections of State Information on Information Returns Should be Included in the Combined Federal/State Filing (CF/SF) Program; Section 302 Escrow and Certification Procedure; Increase Use of Pre-Filing Agreements and Other Tax Certainly Programs; Accelerate Issuance of Section 174 Guidance; Timely Obtain EINs to Comply with the Corporate Transparency Act Requirements; Accelerate Issuance of IRS Form 6166, Certificate of Residency; Acceptance of Tax Payments in Cryptocurrency; Impact on Taxpayers of Modifying Form 709, United States Gift (and Generation-Skipping Transfer) Tax Return; Form 1099-K Reporting; Modifying Form 2290, Heavy Highway Vehicle Use Tax Return; IRS Paid Preparer Due Diligence Penalties; Field Collections Customer Service; Recommendations on Self-Correction Guidance for Employee Plans; Recommendations for the Non-Bank Trustee Program; Recommendations for More Effective Engagement Between the IRS and Exempt Organizations; Recommendations for Effective Engagement for Section 218 and 218A Agreements; Recommendations for Increasing the Tax Reporting Threshold for Slot Machine Jackpot Winnings; Prior Year DIY Product; Notices and Communication; Forms Modernization; and Modernizing the ITIN Process. Last-minute agenda changes may preclude advance notice.

Should you wish the IRSAC to consider a written statement germane to the Council's work, file the statement by sending an email to PublicLiaison@irs.gov by November 7, 2023.

Dated: October 4, 2023.
John A. Lipold,
Designated Federal Official, Office of National Public Liaison, Internal Revenue Service.

[FR Doc. 2023-22436 Filed 10-10-23; 8:45 am]

BILLING CODE 4830-01-P